DEPARTMENT OF COMMERCE

National Oceanic and Atmospheric Administration

RIN: 0648-XH80

Western Pacific Regional Fishery Management Council; Public Meeting

AGENCY: National Marine Fisheries Service (NMFS), National Oceanic and Atmospheric Administration (NOAA), Commerce.

ACTION: Notice of public meetings.

SUMMARY: The Western Pacific Regional Fishery Management Council's (Council) will convene public meetings.

DATES: The meetings will be held from Tuesday, May 27, 2008, through Thursday May 29, 2008. See SUPPLEMENTARY INFORMATION for specific times, dates, and agenda items.

ADDRESSES: The public meetings will be held at Waiakea High School, 155 W. Kawili Street, Hilo, HI; at the Hawaii Big Game Fishing Club at the Honokohau Harbor in Kona, HI; and at Pacific Ocean Producers, Pier 38, 1133 North Nimitz Highway, Honolulu, HI; telephone: (808) 522-8220.

FOR FURTHER INFORMATION CONTACT: Kitty M. Simonds, Executive Director; telephone: (808) 522-8220.

SUPPLEMENTARY INFORMATION:

Dates and Times and Locations

The public meetings will be held between 6 p.m. and 9 p.m. on Tuesday, May 27, 2008, at Waiakea High School in Hilo, HI; Wednesday, May 28, 2008, at the Hawaii Big Game Fishing Club in Kona, HI; and on Thursday, May 29, 2008, at Pacific Ocean Producers in Honolulu, HI.

Agenda

1. Introduction

2. Description of Management Alternatives under Consideration for the Offshore Handline Pelagics Fishery

3. Discussion and Questions

4. Public Comment

The Western Pacific Council voted at its 139th meeting in October 2007 directed staff to draft an amendment to its Pelagic Fisheries Management Plan (PFMP) to consider a limited entry program for the Hawaii offshore commercial pelagic fishery employing handlines and related hook and line gear (e.g. shortlines, vertical longline) off or around seamounts, NOAA weather buoys, and private fish aggregating devices (PFADs). Council concern about the offshore handline fishery dates back to the early 1990s, due to the high catch of juvenile bigeye tuna from this fishery, and its rapid expansion where catches reached in excess of 1 million pounds in 1995. In response, the Council established a control date of July 22, 1992, for the Cross Seamount and NOAA weather buoy offshore handline fishery and informed the public that participants entering the fishery after this data might not be assured of continued participation. More recently, the Council established a general control date of June 2, 2005 for all Hawaii non-longline commercial pelagic fisheries in response to the overfishing condition of Pacific bigeye tuna. The offshore handline fishery has declined since 1995, with landings averaging 450,000 lbs annually. However, the Council continues to be concerned about this fishery due to the potential for fishery expansion if the economy in Hawaii goes into a recession, or reduced bigeye quotas for U.S. longline vessels are implemented based on conservation measures from Pacific tuna regional fishery management organizations (RFMOs) of which the U.S. is a member. Recent studies conducted on handline fisheries suggest a link between fishery participation and unemployment in Hawaii, while bigeye tuna continues to be in an overfishing condition in the Pacific and cuts of up to 25% of longline bigeye catch quotas are being considered by Pacific tuna RFMOs. In establishing a limited entry program, the Magnuson-Stevens Fishery Conservation and Management Act requires Councils to consider, among other things, present and historical fishery participation, fishery economics, and cultural and social issues relevant to the fishery and fishing communities. These meetings will be an opportunity for fishery participants and the public to comment on the proposed limited entry program for the offshore handline fishery and on the issues listed above or other relevant considerations.

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C.1801 et seq.

Dated: May 6, 2008.
Tracey L. Thompson,
Acting Director, Office of Sustainable Fisheries, National Marine Fisheries Service.

[FR Doc. E8-10386 Filed 5-9-08; 8:45 am]

BILLING CODE 3510-22-S